GENERAL SERVICES ADMINISTRATION

[Bulletin FMR 2008-B6]

POW/MIA Flag Display

AGENCY: General Services Administration

ACTION: Notice

SUMMARY: This bulletin cancels GSA Bulletin FPMR D-248, POW/MIA Flag Display, published in the Federal Register on March 26, 1998, notifying Federal agencies of the implementation guidelines of section 1082, Display of POW/MIA Flag, of the National Defense Authorization Act for Fiscal Year 1998 (Pub. L. 105-85, Nov. 18, 1997), now codified at 36 U.S.C. § 902. This bulletin clarifies that National POW/MIA Recognition Day is designated annually by Presidential Proclamation and provides guidance on the protocol for flying the POW/MIA flag and information on how to obtain POW/MIA flags.

EFFECTIVE DATE: June 10, 2008.

FOR FURTHER INFORMATION CONTACT For further clarification of content, contact Stanley C. Langfeld, Director, Regulations Management Division (MPR), General Services Administration, Washington, DC 20405; or stanley.langfeld@gsa.gov.

Dated: May 27, 2008.
Kevin Messner,
Acting Associate Administrator, Office of Governmentwide Policy.

General Services Administration

[Bulletin FMR 2008-B6]

Real Property

TO: Heads of Federal Agencies

SUBJECT: POW/MIA Flag Display

1. Purpose: This bulletin cancels GSA Bulletin FPMR D-248, POW/MIA Flag Display, and notifies Federal agencies of revised implementation guidelines of section 1082, Display of POW/MIA Flag, of the National Defense Authorization Act for Fiscal Year 1998 (Pub. L. 105-85, Nov. 18, 1997), now codified at 36 U.S.C. § 902 (the Act).

2. Expiration Date: This bulletin does not expire unless the Act is amended, superseded or cancelled.

3. Applicability: Federal establishments with responsibility for the following locations:

a) The Capitol;

b) The White House;

c) The World War II Memorial, the Korean War Veterans Memorial and the Vietnam Veterans Memorial;

d) Each national cemetery;

e) The buildings containing the official offices of:

1) the Secretary of State;

2) the Secretary of Defense;

3) the Secretary of Veterans Affairs; and

4) the Director of Selective Service System;

f) Each major military installation, as designated by the Secretary of Defense;

g) Each medical center of the Department of Veterans Affairs; and

h) Each United States Postal Service post office.

4. What action must I take? If this bulletin applies to your Federal establishment, the Act required the head of your department, agency or other establishment to prescribe such regulations as necessary to implement the provisions of section 1082 no later than May 17, 1998. If you are responsible for the Capitol, then this action is not needed. The implementation regulations must be consistent with the general guidelines established by the Act as outlined in this bulletin. The Federal establishments affected by the Act may prescribe additional implementation regulations, as necessary.

a) When do we display the POW/MIA flag? You fly the flag on the following six days:

1) Armed Forces Day, the third Saturday in May;

2) Memorial Day, the last Monday in May;

3) Flag Day, June 14;

4) Independence Day, July 4;

5) National POW/MIA Recognition Day (designated by Presidential Proclamation; historically, the third Friday of September); and

6) Veterans Day, November 11.

b) What other days do we display the flag? In addition to the days enumerated in the immediately preceding paragraph, POW/MIA flag display days include the following:

1) In the case of display at medical centers of the Department of Veterans Affairs, any day on which the flag of the United States is displayed;

2) In the case of display at United States Postal Service post offices that are not open for business on any of the six days listed in the previous paragraph, the last business day before any day specified in the immediately preceding paragraph; and

3) In the case of display at the World War II Memorial, the Korean War Veterans Memorial and the Vietnam Veterans Memorial, any day on which the flag of the United States is displayed.

c) How do I display the POW/MIA flag? The flag is to be displayed in a manner designed to be visible to the public. The Act shall not be construed or applied so as to require any employee to report to work solely for the purpose of providing for the display of the POW/MIA flag. If you are responsible for the Capitol building, the display of the POW/MIA flag pursuant to the Act is in addition to the display of the POW/MIA flag in the Rotunda of the Capitol as required by Senate Concurrent Resolution 5 of the 101st Congress, agreed to on February 22, 1989 (103 Stat. 2533).

d) Why display the POW/MIA flag? Display of the POW/MIA flag serves as the symbol of our Nation's concern and commitment to achieving the fullest possible accounting of all Americans who still remain, or in the future may become, unaccounted for as prisoners of war, missing in action or otherwise unaccounted for as a result of hostile action.

e) What flag is the official POW/MIA flag? The official POW/MIA flag is the National League of Families POW/MIA flag, as designated by 36 U.S.C. § 902.

f) What is the official protocol for displaying the POW/MIA flag? When displayed from a single flag pole, the POW/MIA flag should fly directly below, and be no larger than, the flag of the United States. If on separate poles, the flag of the United States always should be placed to the right of other flags. On the six national observances for which Congress has ordered display of the POW/MIA flag, it is generally flown immediately below or adjacent to the flag of the United States as second in order of precedence.

5. Who distributes official POW/MIA flags? GSA distributes the official POW/MIA flag. You can obtain flags through GSA's Federal Acquisition Service by your usual ordering procedures. Ordering options include GSA Advantage!™, GSA's on-line shopping service, at http://www.gsaadvantage.gov, FEDSTRIP, MILSTRIP, or Customer Supply Centers. For assistance, contact GSA's National Customer Service Center at 1-800-525-8027 or DSN 465-1416.

[FR Doc. E8-12996 Filed 6-9-08; 8:45 am]

BILLING CODE 6820-RH-S